DEPARTMENT OF TRANSPORTATION

National Highway Traffic Safety Administration

49 CFR Part 571

[Docket No. NHTSA-98-4515; Notice 3]

RIN 2127-AF43

Federal Motor Vehicle Safety Standards; Electric-Powered Vehicles: Electrolyte Spillage and Electrical Shock Protection: Delay of Effective Date

AGENCY: National Highway Traffic Safety Administration (NHTSA), Department of Transportation.

ACTION: Final rule; delay of effective date.

SUMMARY: In accordance with the memorandum of January 20, 2001, from the Assistant to the President and Chief of Staff, entitled “Regulatory Review Plan,” published in the Federal Register on January 24, 2001, at 66 FR 7702, this action temporarily delays for 60 days the effective date of the rule entitled “Federal Motor Vehicle Safety Standards; Electric-Powered Vehicles: Electrolyte Spillage and Electrical Shock Protection,” published in the Federal Register on September 27, 2000, at 65 FR 57980. That rule established a new Federal motor vehicle safety standard (FMVSS) No. 305, “Electric-powered vehicles: electrolyte spillage and electrical shock protection” addressing safety issues exclusive to electric vehicles (EVs). Except as noted in the next sentence, the standard applies to all EVs that have a propulsion power source greater than 48 volts and a Gross Vehicle Weight Rating of 4536 kg (10,000 lbs) or less. The standard does not apply to EVs to which FMVSS No. 500, “Low-Speed Vehicles,” applies.

DATES: The effective date of the “Federal Motor Vehicle Safety Standards; Electric-Powered Vehicles: Electrolyte Spillage and Electrical Shock Protection,” published in the Federal Register on September 27, 2000, at 65 FR 57980, is delayed for 60 days, from October 1, 2001, to a new effective date of December 1, 2001.

FOR FURTHER INFORMATION CONTACT: For non-legal issues, contact Charles Hott, Office of Safety Performance Standards, NHTSA (202-366-0427). For legal issues, contact Taylor Vinson, Office of Chief Counsel, NHTSA (202-366-5263).

SUPPLEMENTARY INFORMATION: To the extent that 5 U.S.C. section 553 applies to this action, it is exempt from notice and comment because it constitutes a rule of procedure under 5 U.S.C. section 553(b)(A). Alternatively, NHTSA's implementation of this action without opportunity for public comment, effective immediately upon publication today in the Federal Register, is based on the good cause exceptions in 5 U.S.C. section 553(b)(3)(B) and 553(d)(3). Seeking public comment is impracticable, unnecessary, and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication.

Authority: 49 U.S.C. 322, 30111, 30115, 30166; delegation of authority at 49 CFR 1.50 and 501.

Issued on January 31, 2001.
L. Robert Shelton,
Executive Director.

[FR Doc. 01-3213 Filed 2-7-01; 8:45 am]

BILLING CODE 4910-59-P